DEPARTMENT OF ENERGY

Federal Energy Regulatory Commission

Combined Notice of Filings #1

August 19, 2009.

Take notice that the Commission received the following electric corporate filings:

Docket Numbers: EC09-103-000.

Applicants: Dynegy Arlington Valley, LLC, Dynegy Inc., Dynegy Midwest Generation, Inc., Bluegrass Generation Company, LLC, Renaissance Power, LLC, Griffith Energy LLC, Rocky Road Power, LLC, Riverside Generating Company, LLC, Bridgeport Energy, LLC, LS Power Development, LLC, Tilton Energy LLC.

Description: Joint Application for Approval Under Section 203 of the Federal Power Act of LS Power Development, LLC, et al.

Filed Date: 08/18/2009.

Accession Number: 20090818-5074.

Comment Date: 5 p.m. Eastern Time on Tuesday, September 08, 2009.

Docket Numbers: EC09-104-000.

Applicants: Lord, Abbett & Co. LLC.

Description: Request for Blanket Authorizations to Acquire and Dispose of Securities Under section 203 of the Federal Power Act.

Filed Date: 08/19/2009.

Accession Number: 20090819-5028.

Comment Date: 5 p.m. Eastern Time on Wednesday, September 09, 2009.

Take notice that the Commission received the following electric rate filings:

Docket Numbers: ER09-405-001.

Applicants: New York Independent System Operator, Inc.

Description: NYISO's Final Report on Restitution Discussions and Report on Error Notification and Transparency Procedures.

Filed Date: 08/10/2009.

Accession Number: 20090810-5092.

Comment Date: 5 p.m. Eastern Time on Monday, August 31, 2009.

Docket Numbers: ER09-1228-001.

Applicants: Florida Power Corporation.

Description: Florida Power Corporation submits revisions to OATT Formula Transmission Rate to reflect Settlement with Customers.

Filed Date: 08/17/2009.

Accession Number: 20090818-0051.

Comment Date: 5 p.m. Eastern Time on Tuesday, September 08, 2009.

Docket Numbers: ER09-1248-001.

Applicants: MidAmerican Energy Company.

Description: MidAmerican Energy Company submits the required compliance filing of a proposed attachment FF-MidAmerican Local Transmission Planning Projects to the Midwest ISO ASA Tariff.

Filed Date: 08/17/2009.

Accession Number: 20090818-0053.

Comment Date: 5 p.m. Eastern Time on Tuesday, September 08, 2009.

Docket Numbers: ER09-1403-001.

Applicants: Wisconsin Electric Power Company.

Description: Wisconsin Electric Power Company submits certain tariff revisions to the Restated Power Service Agreement between Wisconsin Electric and WPPI Energy.

Filed Date: 08/18/2009.

Accession Number: 20090819-0626.

Comment Date: 5 p.m. Eastern Time on Tuesday, September 08, 2009.

Docket Numbers: ER09-1479-000.

Applicants: Kansas Energy LLC.

Description: Petition of Kansas Energy, LLC for Acceptance of Initial Tariff, Waivers and Blanket Authority.

Filed Date: 08/14/2009.

Accession Number: 20090817-0064.

Comment Date: 5 p.m. Eastern Time on Friday, September 04, 2009.

Docket Numbers: ER09-1599-000.

Applicants: Florida Power Corporation.

Description: Florida Power Corporation submits Service Schedule C for inclusion in the Contract for Interchange Service between FPC and Tampa Electric Company dated 7/21/08 as amended.

Filed Date: 08/18/2009.

Accession Number: 20090818-0046.

Comment Date: 5 p.m. Eastern Time on Tuesday, September 08, 2009.

Docket Numbers: ER09-1600-000.

Applicants: Cleco Power LLC.

Description: Cleco Power LLC submits an amended version of the Network Operating Agreement etc.

Filed Date: 08/18/2009.

Accession Number: 20090818-0045.

Comment Date: 5 p.m. Eastern Time on Tuesday, September 08, 2009.

Docket Numbers: ER09-1601-000.

Applicants: San Diego Gas & Electric Company.

Description: San Diego Gas & Electric Company submits its Transmission Owner Tariff Cycle 3.

Filed Date: 08/17/2009.

Accession Number: 20090819-0524.

Comment Date: 5 p.m. Eastern Time on Tuesday, September 08, 2009.

Docket Numbers: ER09-1602-000.

Applicants: Tampa Electric Company.

Description: Tampa Electric Company submits Service Schedule C for inclusion in the Agreement for Interchange Service between Tampa Electric and the Utilities Commission, City if New Smyrna Beach dated 10/31/79 as amended.

Filed Date: 08/17/2009.

Accession Number: 20090819-0623.

Comment Date: 5 p.m. Eastern Time on Tuesday, September 08, 2009.

Docket Numbers: ER09-1603-000.

Applicants: Tampa Electric Company.

Description: Tampa Electric Company submits Service Schedule C for inclusion in the Contract for Interchange Service between Tampa Electric dated 7/15/77 as amended.

Filed Date: 08/17/2009.

Accession Number: 20090819-0622.

Comment Date: 5 p.m. Eastern Time on Tuesday, September 08, 2009.

Docket Numbers: ER09-1604-000.

Applicants: Northern Indiana Public Service Company.

Description: Northern Indiana Public Service Company submits Supplement 30 to NIPSCO Electric Rate Schedule FERC 14, which shows the agreement between NIPSCO and Wabash Power Valley Association, Inc etc.

Filed Date: 08/18/2009.

Accession Number: 20090819-0625.

Comment Date: 5 p.m. Eastern Time on Tuesday, September 08, 2009.

Docket Numbers: ER94-1188-047; ER06-1046-005; ER98-1279-017; ER98-4540-016; ER99-1623-016.

Applicants: LG&E Energy Marketing Inc.; LG&E Energy Marketing Inc.; Western Kentucky Energy Corporation; Louisville Gas & Electric Company; Kentucky Utilities Company.

Description: E.ON. U.S. informing the Commission of two changes in status with regard to the characteristics that the Commission previously relied upon in granting them market-based rate authority.

Filed Date: 08/17/2009.

Accession Number: 20090818-0052.

Comment Date: 5 p.m. Eastern Time on Tuesday, September 08, 2009.

Take notice that the Commission received the following open access transmission tariff filings:

Docket Numbers: OA08-27-003.

Applicants: E.ON. U.S. LLC.

Description: Louisville Gas and Electric Company et al. submits a revised Attachment K to the LG&E/KU joint Open Access Transmission Tariff pursuant to FERC's 6/18/09 Order.

Filed Date: 08/17/2009.

Accession Number: 20090818-0033.

Comment Date: 5 p.m. Eastern Time on Tuesday, September 08, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-20997 Filed 8-31-09; 8:45 am]

BILLING CODE 6717-01-P